INTERNATIONAL TRADE COMMISSION

[USITC SE-17-014]

Government in the Sunshine Act Meeting Notice

AGENCY HOLDING THE MEETING: United States International Trade Commission.

TIME AND DATE: April 21, 2017 at 11:00 a.m.

PLACE: Room 101, 500 E Street SW., Washington, DC 20436, Telephone: (202) 205-2000.

STATUS: Open to the public.

MATTERS TO BE CONSIDERED:

1. Agendas for future meetings: None.

2. Minutes.

3. Ratification List.

4. Vote in Inv. Nos. 701-TA-567-569 and 731-TA-1343-1345 (Preliminary)(Silicon Metal from Australia, Brazil, Kazakhstan, and Norway). The Commission is currently scheduled to complete and file its determinations on April 24, 2017; views of the Commission are currently scheduled to be completed and filed on May 1, 2017.

5. Vote in Inv. Nos. 701-TA-570 and 731-TA-1346 (Preliminary)(Aluminum Foil from China). The Commission is currently scheduled to complete and filed its determinations on April 24, 2017; views of the Commission are currently scheduled to be completed and filed on May 1, 2017.

6. Vote in Inv. Nos. 701-TA-558 and 731-TA-1316 (Final)(1-Hydroxyethylidene-1, 1-Diphosphonic Acid (HEDP) from China). The Commission is currently scheduled to complete and file its determinations and views of the Commission by May 8, 2017.

7. Outstanding action jackets: None.

In accordance with Commission policy, subject matter listed above, not disposed of at the scheduled meeting, may be carried over to the agenda of the following meeting.

By order of the Commission.
Issued: April 12, 2017.
William R. Bishop,
Supervisory Hearings and Information Officer.

[FR Doc. 2017-07718 Filed 4-12-17; 4:15 pm]

BILLING CODE 7020-02-P